DEPARTMENT OF EDUCATION

Office of Postsecondary Education, Teacher and Student Development Programs Service

Catalog of Federal Domestic Assistance (CFDA) Number 84.333A.

ACTION: Notice Announcing the Technical Assistance Workshop for Fiscal Year (FY) 2008 Demonstration Projects to Ensure Students with Disabilities Receive a Quality Higher Education Program (Demonstration Program).

SUMMARY: The Department expects to hold a competition for new grants under the Demonstration Program in FY 2008. This notice provides information about a one-day technical assistance workshop to assist institutions of higher education interested in preparing grant applications for FY 2008 new awards under the Demonstration Program. Program and Department staff will present information to potential applicants about the purpose of the Demonstration Program, the grant competition highlights, the peer review process, and the Grants.gov Web site, as well as suggestions for writing a quality grant proposal.

Although the Department has not yet announced an application deadline date in the Federal Register for the FY 2008 competition, the Department is holding this workshop to give potential applicants guidance for preparing applications for the competition we expect to conduct in FY 2008. Specific requirements for the FY 2008 competition will be published in a separate notice, a notice inviting applications for the Demonstration Program. This notice announces the technical assistance workshop only.

FOR FURTHER INFORMATION CONTACT: Shedita Alston, Demonstration Program, U.S. Department of Education, 1990 K Street, NW., Room 7097, Washington, DC 20006-8524. Telephone: (202) 502-7808.

If you use a telecommunications device for the deaf (TDD), call the Federal Relay Service, toll free, at 1-800-877-8339.

Individuals with disabilities can obtain a copy of the application package in an alternative format (e.g., Braille, large print, audiotape, or computer diskette) by contacting the program contact person listed in this section.

SUPPLEMENTARY INFORMATION: The technical assistance workshop will be held at: U.S. Department of Education, 1990 K Street, NW., 8th Floor Conference Center, Washington, DC 20006.

The Technical Assistance Workshop session will be held on April 8, 2008, from 8 a.m. to 4 p.m. Registration is from 8 a.m. to 9 a.m. on the day of the session. There is no fee for this workshop. However, space is limited. Attendees are required to make their own travel and hotel reservations. We encourage attendance from both those who will be responsible for writing the grant proposal and those who will provide technical support for uploading the application materials onto the Grants.gov Apply site.

Assistance to Individuals With Disabilities Attending the Technical Assistance Workshop

The technical assistance workshop site is accessible to individuals with disabilities. If you need an auxiliary aid or service to participate in the workshop (e.g., interpreting service, assistive listening device, or materials in an alternative format), notify the contact person listed under FOR FURTHER INFORMATION CONTACT at least two weeks before the scheduled workshop date. Although we will attempt to meet a request received after that date, we may not be able to make available the requested auxiliary aid or service because of insufficient time to arrange it.

Electronic Access to This Document: You can view this document, as well as all other documents of this Department published in the Federal Register, in text or Adobe Portable Document Format (PDF) on the Internet at the following site: http://www.ed.gov/news/fedregister.

To use PDF, you must have Adobe Acrobat Reader, which is available free at this site. If you have any questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1140-1140d.

Dated: March 27, 2008.
Diane Auer Jones,
Assistant Secretary for Postsecondary Education.

[FR Doc. E8-6697 Filed 3-31-08; 8:45 am]

BILLING CODE 4000-01-P